DEPARTMENT OF ENERGY

Federal Energy Regulatory Commission

[Docket No. CP01-361-000]

Northwest Pipeline Corporation; Notice of Application

May 22, 2001.

Take notice that on May 11, 2001, Northwest Pipeline Corporation (Northwest) 295 Chipeta Way, Salt Lake City, Utah 84108, filed, in Docket No. CP01-361-000, an application pursuant to Section 7(c) of the Natural Gas Act and Part 157 of the Federal Energy Regulatory Commission's (Commission) regulations for a certificate of public convenience and necessity authorizing: (1) two taps on Northwest's mainline near Vail, Washington, (2) a 20-inch diameter 48.9-mile lateral pipeline in Thurston and Grays Harbor Counties, Washington, (3) 4700 horsepower of compression at an existing compressor station in Thurston County, (4) a delivery meter station in Grays Harbor County, all as more fully set forth in the application which is on file with the Commission and open to public inspection. This filing may be viewed at http://www.ferc.fed.us/online/rims.htm (call 202-208-2222 for assistance).

Specifically, Northwest requests authorization to construct the Grays Harbor Lateral to provide natural gas deliveries to Duke Energy Grays Harbor, LLC (Duke) for electricity generation at a planned new power plant in Grays Harbor County. Duke has executed a Rate Schedule TF-1 Transportation Agreement (Lateral Transportation Agreement), for the firm transportation of up to 161,500 Dth per day over the proposed Grays Harbor Lateral, for a primary term of 30 years.

Northwest requests approval of non-conforming provisions in its Lateral Transportation Agreement with Duke that include: giving Duke a preferential right to acquire any compression-only expansive capacity on the lateral for a period of ten years; an agreement by Northwest not to solicit expansion transportation commitments through a mainline expansion open season process for expansion capacity on the proposed delivery facilities and; a provision to adjust Duke's cost responsibility in the event that Northwest installs additional compression to provide expansion capacity for a third-party shipper. Northwest also requests any necessary waiver of Northwest's tariff provisions, specifically requesting waiver of Section 21.3 of its tariff's General Terms and Conditions to the extent necessary for the Lateral Transportation Agreement provisions to supersede the otherwise applicable tariff provision for early lump sum buyouts of a cost of service charge.

The estimated cost of the proposed lateral facilities is approximately $75.2 million with an estimated initial monthly cost-of-service charge for Duke of $1,406,692. Pursuant to the Lateral Transportation Agreement, Duke will reimburse Northwest for all actual costs associated with the proposed facilities by paying a monthly cost-of-service charge over 30 years. In recognition of Duke's facilities reimbursement obligation, the associated Rate Schedule TF-1 reservation charge for Duke's transportation on the lateral will be discounted to zero. Northwest requests a preliminary determination on non-environmental issues by November 15, 2001, and a final certificate order no later than April 15, 2002, in order to complete the project before November 2002, the date Duke estimates it will require test gas for its new plant.

Questions regarding the details of this proposed project should be directed to Mr. Gary Kotter, Manager Certificates, Northwest Pipeline Corporation, P.O. Box 58900, Salt Lake City, Utah 84158-0900 or call (801) 584-7117.

There are two ways to become involved in the Commission's review of this project. First, any person wishing to obtain legal status by becoming a party to the proceedings for this project should, on or before June 12, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-13359 Filed 5-25-01; 8:45 am]

BILLING CODE 6717-01-M